DEPARTMENT OF THE TREASURY

Submission for OMB Review; Comment Request

June 15, 2011.

The Department of Treasury will submit the following public information collection requirement to OMB for review and clearance under the Paperwork Reduction Act of 1995, Public Law 104-13 on or after the publication date of this notice. A copy of the submission may be obtained by calling the Bureau Information Clearance Officer listed. Comments regarding this information collection should be addressed to the OMB reviewer listed and to the Treasury PRA Clearance Officer, Department of the Treasury, 1750 Pennsylvania Avenue, NW., Suite 11010, Washington, DC 20220.

Dates: Written comments should be received on or before July 21, 2011 to be assured of consideration.

Community Development Financial Instutitions (CDFI) Fund

OMB Number: 1559-NEW.

Type of Review: New collection.

Title: Capacity Building Initiative.

Abstract: Pursuant to the Community Development Banking and Financial Institutions Act of 1994 (the Act), as amended (12 U.S.C. 4701 et seq.), the CDFI Fund provides training and technical assistance to Community Development Financial Institutions (CDFIs) and similar entities in order to enhance their ability to make loans and investments and provide services for the benefit of designated investment areas and targeted populations. The information collected will be used to identify specific topics for training and technical assistance and develop course content which will be tailored to the needs and capacity levels of recipients. The requested information is necessary to support effective use of Federal resources.

Respondents: Certified CDFIs, entities seeking CDFI certification and similar entities.

Estimated Total Annual Burden Hours: 9,000.

CDFI Fund Clearance Officer: Charles McGee, Community Development Financial Institutions Fund, Department of the Treasury, 601 13th Street, NW., Suite 205, Washington, DC 20005; (202) 622-8453.

OMB Reviewer: Shagufta Ahmed, Office of Management and Budget, New Executive Office Building, Room 10235, Washington, DC 20503; (202) 395-7873.

Dawn D. Wolfgang,
Treasury PRA Clearance Officer.

[FR Doc. 2011-15329 Filed 6-20-11; 8:45 am]

BILLING CODE 4810-70-P